DEPARTMENT OF AGRICULTURE

Natural Resources Conservation Service

Dunloup Creek Watershed, Fayette and Raleigh Counties, WV

AGENCY: Natural Resources Conservation Service.

ACTION: Notice of Availability of a Record of Decision.

SUMMARY: Kevin Wickey, responsible Federal official for projects administered under the provisions of the Watershed Protection and Flood Prevention Act, Public Law 83-566, 16 U.S.C. 1001-1008, in the State of West Virginia, is hereby providing notification that a Record of Decision to proceed with the installation of the Dunloup Creek Watershed Project is available. Single copies of this Record of Decision may be obtained from Kevin Wickey at the address shown below.

FOR FURTHER INFORMATION CONTACT: Kevin Wickey, State Conservationist, Natural Resources Conservation Service, 75 High Street, Room 301, Morgantown, West Virginia 26505, telephone (304) 284-7545.

Dated: August 10, 2007.
Kevin Wickey,
State Conservationist.

(This activity is listed in the Catalog of Federal Domestic Assistance under No. 10-904—Watershed Protection and Flood Prevention—and is subject to the provisions of Executive Order 12372 which requires intergovernmental consultation with State and local officials.)

[FR Doc. E7-16382 Filed 8-20-07; 8:45 am]

BILLING CODE 3410-16-P